DEPARTMENT OF COMMERCE

Foreign-Trade Zones Board

[Order No. 1678]

Reorganization of Foreign-Trade Zone 2, under Alternative Site Framework, New Orleans, Louisiana, Area

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Board of Commissioners of the Port of New Orleans, grantee of Foreign-Trade Zone 2, submitted an application to the Board (FTZ Docket 58-2009, filed 12/14/2009) for authority to reorganize under the ASF with a service area of Orleans, Jefferson and St. Bernard Parishes, Louisiana, adjacent to the New Orleans Customs and Border Protection port of entry, and FTZ 2's existing Sites 2, 4, 6 and 7 would be categorized as magnet sites, existing Sites 1 and 8 through 61 would be categorized as usage-driven sites, and existing Site 3 would be deleted;

Whereas, notice inviting public comment was given in the Federal Register (74 FR 68041-68042, 12/22/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 2 under the alternative site framework is approved, subject to the FTZ Act and the Board's regulations, including Section 400.28, to the Board's standard 2,000-acre activation limit for the overall general-purpose zone project, to a five-year ASF sunset provision for magnet sites that would terminate authority for Sites 4, 6 and 7 if not activated by May 31, 2015, and to a three-year ASF sunset provision for usage-driven sites that would terminate authority for Sites 1 and 8 through 61 if no foreign-status merchandise is admitted for a bona fide customs purpose by May 31, 2013.

Signed at Washington, DC, this 13th day of May 2010.

Ronald K. Lorentzen,
Deputy Assistant Secretary for Import Administration, Alternate Chairman, Foreign-Trade Zones Board.
Attest:
Andrew McGilvray,
Executive Secretary.

[FR Doc. 2010-12289 Filed 5-20-10; 8:45 am]

BILLING CODE 3510-DS-S